DEPARTMENT OF THE INTERIOR

Office of the Secretary

Secretarial Commission on Indian Trust Administration and Reform

AGENCY: Office of the Secretary, Interior.

ACTION: Notice of meeting; correction.

SUMMARY: The Office of the Secretary published a document in the Federal Register of January 28, 2013, announcing that the Secretarial Commission on Indian Trust Administration and Reform (the Commission) will hold a public meeting on February 12 and 13, 2013; and will host a youth outreach session on February 11, 2013. This notice corrects and clarifies the location of the meetings.

DATES: The Commission's public meeting will begin at 8 a.m. and end at 2:30 p.m. on February 12, and begin at 8 a.m. and end at 4:30 p.m. on February 13, 2013. Members of the public who wish to attend in person should RSVP by February 8, 2013, to: trustcommission@ios.doi.gov to ensure adequate meeting packets will be made available. Members of the public who wish to participate via teleconference and/or webinar should respond by February 8, 2013, to: trustcommission@ios.doi.gov and information on how to register will be provided; virtual participation is limited to 100 participants. The Commission's public youth outreach session will be held from 7 p.m. to 9 p.m. on February 11, 2013; additional information will be available at: http://www.doi.gov/cobell/commission/index.cfm.

ADDRESSES: The public meeting on February 12 and 13, 2013, will be held at the Hilton Seattle Airport, 17620 International Blvd., Seattle, Washington 98188. The public youth outreach session will be held at the University of Washington, Samuel E. Kelly Ethnic Cultural Center, 3931 Brooklyn Avenue NE., Seattle, Washington 98195. We encourage you to RSVP to trustcommission@ios.doi.gov by February 8, 2013.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Corrections

In the Federal Register of January 28, 2013, in the FR Doc. 5829-5830, on page 5829, in the third column, correct the location listed in the ADDRESSES section with the following:

The public meeting on February 12 and 13, 2013, will be held at the Hilton Seattle Airport, 17620 International Blvd., Seattle, Washington 98188. We encourage you to RSVP to trustcommission@ios.doi.gov by February 8, 2013. The public youth outreach session on February 11, 2013 will be held at University of Washington, Samuel E. Kelly Ethnic Cultural Center, 3931 Brooklyn Avenue NE., Seattle, Washington 98195.

Dated: February 4, 2013.
David J. Hayes,
Deputy Secretary.

[FR Doc. 2013-02796 Filed 2-6-13; 8:45 am]

BILLING CODE 4310-W7-P